DEPARTMENT OF THE INTERIOR

Bureau of Land Management

[LLWY920000 L14300000.EU0000; WYW 167526]

Notice of Realty Action: Modified Competitive Sealed Bid Sale of Public Land in Sweetwater County, Wyoming

AGENCY: Bureau of Land Management, Interior.

ACTION: Correction.

SUMMARY: This notice corrects the date that the Bureau of Land Management will open sealed bids for this public land sale. The original notice, which was published on Tuesday November 18, 2014, (79 FR 68693), incorrectly stated the date. On page 68693, column 3, line 9 under DATES, which reads “January 20, 2015”, is hereby corrected to read “January 21, 2015.”

Mary Jo Rugwell,
Acting Wyoming State Director.

[FR Doc. 2014-30059 Filed 12-22-14; 8:45 am]

BILLING CODE 4310-22-P